DEPARTMENT OF EDUCATION

Applications for New Awards; Project Prevent Grant Program

AGENCY: Office of Elementary and Secondary Education, Department of Education.

ACTION: Notice.

SUMMARY: The Department of Education (Department) is issuing a notice inviting applications for fiscal year (FY) 2019 for the Project Prevent grant program, Catalog of Federal Domestic Assistance (CFDA) number 84.184M. This notice relates to the approved information collection under OMB control number 1894-0006.

DATES:

Applications Available: June 5, 2019.

Deadline for Transmittal of Applications: July 15, 2019.

Deadline for Intergovernmental Review: September 13, 2019.

ADDRESSES: For the addresses for obtaining and submitting an application, please refer to our Common Instructions for Applicants to Department of Education Discretionary Grant Programs, published in the Federal Register on February 13, 2019 (84 FR 3768), and available at www.govinfo.gov/content/pkg/FR-2019-02-13/pdf/2019-02206.pdf.

FOR FURTHER INFORMATION CONTACT: Nicole A. White, U.S. Department of Education, 400 Maryland Avenue SW, Room 3E326, Washington, DC 20202-6450. Telephone: (202) 453-6729. Email: Project.Prevent@ed.gov.

If you use a telecommunications device for the deaf (TDD) or a text telephone (TTY), call the Federal Relay Service (FRS), toll free, at 1-800-877-8339.

SUPPLEMENTARY INFORMATION:

Full Text of Announcement

I. Funding Opportunity Description

Purpose of Program: The Project Prevent grant program provides grants to local educational agencies (LEAs) to increase their capacity to help schools in communities with pervasive violence to better address the needs of affected students and to break the cycle of violence in those communities.

Background: Children's exposure to violence, whether as victims or witnesses, is often associated with long-term physical, psychological, and emotional harms. These harms include, among others, depression, anxiety, and post-traumatic disorders; failing or having difficulty in school; and delinquency or criminal behavior, including violent acts.¹

¹ https://www.ncjrs.gov/pdffiles1/ojjdp/227744.pdf.

In December 2018, the Federal Commission on School Safety (FCSS) released its final report.² The report offers several recommendations for States, local communities, and the Federal government to improve school safety. The Project Prevent grant program supports activities directly linked with recommendations identified in the FCSS. Under this program, grantees may use funds to address some of those FCSS recommendations in their local districts as they develop approaches to improving school engagement, school safety, and the school environment for all students.

² https://www2.ed.gov/documents/school-safety/school-safety-report.pdf.

Project Prevent grants will enable LEAs to increase their capacity to identify, assess, and serve students exposed to pervasive violence, helping LEAS to offer affected students mental health services for trauma or anxiety; support conflict resolution programs; and implement other school-based violence prevention strategies in order to reduce the likelihood that these students will later commit violent acts.

Priorities: This competition includes one absolute priority and two competitive preference priorities. We are establishing the absolute priority and Competitive Preference Priority 1 for the FY 2019 grant competition and any subsequent year in which we make awards from the list of unfunded applications from this competition, in accordance with section 437(d)(1) of the General Education Provisions Act (GEPA), 20 U.S.C. 1232(d)(1). In accordance with 34 CFR 75.105(b)(2)(ii), Competitive Preference Priority 2 is from the Department's Notice of Final Supplemental Priorities and Definitions for Discretionary Grant Programs (Supplemental Priorities), published in the Federal Register on March 2, 2018 (83 FR 9096).

Absolute Priority: This priority is an absolute priority. Under 34 CFR 75.105(c)(3) we consider only applications that meet this priority.

This priority is:

Expanding the Capacity of LEAs to Assist Schools in Communities With Pervasive Violence to Break the Cycle of Violence by Better Meeting the Needs of Affected Students.

Under this priority, we provide funding for projects to expand the capacity of LEAs to more effectively assist impacted schools in communities with pervasive violence to better meet the needs of students directly or indirectly exposed to pervasive violence.

Applicants must address each of the following four subparts of this absolute priority. Projects must offer students: (1) Access to school-based counseling services, or referrals to community-based counseling services, for assistance in coping with trauma or anxiety; (2) school-based social emotional and behavioral supports for students to help address the effects of violence; (3) conflict resolution and other school-based strategies to prevent future violence; and (4) activities designed to promote a safer and improved school environment, which may include activities designed to decrease the incidence of harassment, bullying, fighting, gang participation, sexual assault, and substance abuse.

Projects funded under this priority may use up to 12 months during the first year of the project period for program planning. Applicants that propose to use this option must provide sufficient justification for why this program planning time is necessary, provide the intended outcomes of program planning in Year 1, and include a description of the proposed strategies and activities to be supported, such as developing baseline Government Performance and Results Act of 1993 data as described in the Performance Measures section of this notice.

Competitive Preference Priorities: These priorities are competitive preference priorities. Under 34 CFR 75.105(c)(2)(1), we award an additional eight points to an application that meets Competitive Preference Priority 1, and we award up to an additional two points to an application, depending on how well the application meets Competitive Preference Priority 2, for a maximum of ten possible additional points under the competitive preference priorities. An applicant must clearly indicate in the abstract section of its application that it is addressing a competitive preference priority or priorities, including which of the priorities its application addresses.

These priorities are:

Competitive Preference Priority 1—Collaboration With a Local Mental Health Agency (up to 8 points).

An application that includes a memorandum of agreement (MOA) or memorandum of understanding (MOU) signed by the authorized representative of a local mental health agency that agrees to collaborate with the applicant on the proposed project and provide resources and/or administer services that are likely to substantially contribute to positive outcomes for the proposed project.

Competitive Preference Priority 2—Fostering Knowledge and Promoting the Development of Skills That Prepare Students To Be Informed, Thoughtful, and Productive Individuals and Citizens (up to 2 points).

Supporting projects likely to improve student academic performance and better prepare students for employment, responsible citizenship, and fulfilling lives, including by preparing children or students to do one or more of the following:

(i) Develop positive personal relationships with others.

(ii) Develop determination, perseverance, and the ability to overcome obstacles.

(iii) Develop self-esteem through perseverance and earned success.

(iv) Develop problem-solving skills.

(v) Develop self-regulation in order to work toward long-term goals.

Requirements: We are establishing these application requirements for the FY 2019 grant competition and any subsequent year in which we make awards from the list of unfunded applications from this competition, in accordance with section 437(d)(1) of GEPA, 20 U.S.C. 1232(d)(1).

Application Requirements: Applicants must describe the following in their applications:

(a) The severity and magnitude of the problem and identification of schools to be served by the proposed project.

Applicants must identify the schools to be served by project activities and describe how pervasive violence in the community is specifically affecting students in those schools. Applicants must describe the nature of the problem for the LEA, based on information such as, but not limited to, incidents of community domestic violence or violent crime; rates of child abuse and neglect; school crime and safety data; student mental health screenings or assessments; surveys of school climate; surveys of student engagement; or other relevant data and information. The description may also include demographic data provided by U.S. Census surveys. In order to assess the magnitude of the problem and ensure the schools selected have the greatest need, school data cited must be compared to similar data at the State or local level, and on a per capita basis (such as homicides per 100,000 persons) when available.

(b) Collaboration and coordination with related Federal, State, and local initiatives.

Applicants must describe how they intend to work collaboratively with Federal, State, and local juvenile justice, mental health, public health, child welfare, or other community agencies to achieve project goals and objectives. Applicants must also describe proposed coordination with existing federally funded efforts related to youth violence prevention and mental health promotion (such as other violence prevention-related grants administered by the U.S. Department of Justice, the Substance Abuse and Mental Health Services Administration, and the Centers for Disease Control and Prevention ³), if applicable. Evidence of collaboration and coordination must be provided through letters of support or MOAs/MOUs from local or State agencies and other federally funded projects, if applicable. Finally, applicants must describe how they will use Project Prevent grant program funds to supplement, rather than supplant, existing, ongoing, or new efforts to reduce youth violence and mitigate the effects of pervasive violence on students.

³ See, for example, https://www.justice.gov/ovw, https://www.justice.gov/ovw/domestic-violence, https://www.ovc.gov/, https://www.samhsa.gov/grants, and https://www.cdc.gov/grants/index.html.

(c) Building greater and more effective family engagement in the education of their children or students.

Applicants must describe how the proposed project will encourage or improve family engagement.

(d) Creating or expanding partnerships with community-based organizations to provide supports and services to students and families.

Applicants must describe how they will partner with community-based organizations (e.g., local civic or community service organizations, local faith-based organizations, or local foundations or non-profit organizations) to provide support to students and families.

(e) Activities that will expand and improve LEA capacity to serve students exposed to pervasive violence and ensure affected students receive mental health services.

Applicants must describe the specific activities they will conduct to expand and improve LEA capacity to serve students exposed to pervasive violence and to ensure that affected students receive appropriate mental health services. To meet this requirement, the applicant must propose to conduct three or more of the following:

(1) Professional development opportunities for LEA and school mental health staff (e.g., counselors, psychologists, and social workers) on how to screen for and respond to violence-related trauma and implement appropriate school-based mitigation strategies or trauma-informed care.

(2) Activities designed to improve the range, availability, and quality of school-based mental health services by hiring school and clinical psychologists, school counselors, or school social workers with expertise or training in violence prevention and trauma-informed care and qualified to respond to the mental health needs of students who have experienced trauma as a result of exposure to violence.

(3) Training for school staff (e.g., teachers, administrators, and support staff), community partners, youth, and parents on the problem of student exposure to pervasive violence, as well as the importance of screening students and providing interventions to help students cope with traumatic events.

(4) Activities that address the needs of students in affected schools by developing or improving processes to better target services to these students and developing or improving processes to assess students who are exposed to pervasive violence and who may be experiencing resulting mental, emotional, or behavioral disorders.

(5) Activities designed to enhance linkages between LEA mental health services and community mental health systems to ensure affected students receive referrals to treatment as appropriate.

(f) The delivery of a tiered continuum of evidence-based programs and practices in selected schools to promote conflict resolution, improve school climate and safety, and implement other school-based strategies to break the cycle of violence.

Applicants must describe the continuum of evidence-based programs and practices that will be implemented at the school level and how these programs and practices will be organized to provide differentiated support based on student need and to break the cycle of violence. These programs and practices must include all of the following:

(1) Interventions and activities that are available to all students in a school, regardless of risk level, with the goal of preventing negative or violent behavior (such as harassment, bullying, fighting, gang participation, sexual assault, and substance abuse) and enhancing student knowledge and skills regarding positive behavior (such as expected school behavior and conflict resolution).

(2) Interventions and activities (such as those related to anger management, conflict resolution, promotion of positive behavior, and development of protective factors) that target individual students or a sub-group of students whose risk of developing mental or behavioral disorders is significantly higher than average.

(3) Interventions and services that target individual students who are at risk for, and have shown signs of, mental, emotional, or behavioral disorders; exhibit aggressive, violent, or disruptive behavior; or participate in gangs.

To meet this requirement, applicants must discuss the research and evidence supporting the proposed programs and practices and the expected effects on the target population. Applicants may use the Federal registries listed in the application package for identifying such programs and practices.

(g) The framework for planning, implementation, and sustainability.

Applicants must describe how the proposed project is integrated and aligned with the mission and vision of the LEA, including a description of the relationship of the project to the LEA's existing school safety or related plan. Applicants must include a description of anticipated challenges to success of the project and how they will be addressed, such as mitigating turnover at the LEA leadership, school leadership, and staff levels. Applicants must also include a timeline of activities for—

(1) Planning, which includes: Conducting a needs assessment that is comprehensive and examines areas for improvement related to learning conditions that create a safe and healthy environment for students, creating a logic model, completing resource mapping, selecting evidence-based programs, developing evaluation plans, and engaging partners and stakeholders;

(2) Implementation, which includes: Training on evidence-based programs, executing evidence-based programs, continuing engagement with stakeholders, communicating and collaborating strategically with community partners, and evaluating program implementation; and

(3) Sustainability, which includes: Further developing and expanding on the project's successes beyond the end of the grant, at the school and community levels, in alignment with other related efforts.

Definitions: We are establishing the definition of “school engagement” in this notice for the FY 2019 grant competition and any subsequent year in which we make awards from the list of unfunded applications from this competition, in accordance with section 437(d)(1) of GEPA, 20 U.S.C. 1232(d)(1). The definition of “local educational agency” is from 20 U.S.C. 7801(30). The definitions of “ambitious,” “baseline,” “evidence-based,” “experimental study,” “logic model,” “project component,” “promising evidence,” “quasi-experimental design study,” “relevant outcome,” and “What Works Clearinghouse Handbook” are from 34 CFR 77.1.

These definitions are:

Ambitious means promoting continued, meaningful improvement for program participants or for other individuals or entities affected by the grant, or representing a significant advancement in the field of education research, practices, or methodologies. When used to describe a performance target, whether a performance target is ambitious depends upon the context of the relevant performance measure and the baseline for that measure.

Baseline means the starting point from which performance is measured and targets are set.

Evidence-based means the proposed project component is supported by promising evidence.

Experimental study means a study that is designed to compare outcomes between two groups of individuals (such as students) that are otherwise equivalent except for their assignment to either a treatment group receiving a project component or a control group that does not. Randomized controlled trials, regression discontinuity design studies, and single-case design studies are the specific types of experimental studies that, depending on their design and implementation (e.g., sample attrition in randomized controlled trials and regression discontinuity design studies), can meet What Works Clearinghouse (WWC) standards without reservations as described in the WWC Handbook:

(a) A randomized controlled trial employs random assignment of, for example, students, teachers, classrooms, or schools to receive the project component being evaluated (the treatment group) or not to receive the project component (the control group).

(b) A regression discontinuity design study assigns the project component being evaluated using a measured variable (e.g., assigning students reading below a cutoff score to tutoring or developmental education classes) and controls for that variable in the analysis of outcomes.

(c) A single-case design study uses observations of a single case (e.g., a student eligible for a behavioral intervention) over time in the absence and presence of a controlled treatment manipulation to determine whether the outcome is systematically related to the treatment.

Local educational agency (LEA) means:

(a) A public board of education or other public authority legally constituted within a State for either administrative control or direction of, or to perform a service function for, public elementary schools or secondary schools in a city, county, township, school district, or other political subdivision of a State, or of or for a combination of school districts or counties that is recognized in a State as an administrative agency for its public elementary schools or secondary schools.

(b) The term includes any other public institution or agency having administrative control and direction of a public elementary school or secondary school.

(c) The term includes an elementary school or secondary school funded by the Bureau of Indian Education but only to the extent that including the school makes the school eligible for programs for which specific eligibility is not provided to the school in another provision of law and the school does not have a student population that is smaller than the student population of the local educational agency receiving assistance under the ESEA with the smallest student population, except that the school shall not be subject to the jurisdiction of any State educational agency other than the Bureau of Indian Education.

(d) The term includes educational service agencies and consortia of those agencies.

(e) The term includes the State educational agency in a State in which the State educational agency is the sole educational agency for all public schools.

Logic model (also referred to as a theory of action) means a framework that identifies key project components of the proposed project (i.e., the active “ingredients” that are hypothesized to be critical to achieving the relevant outcomes) and describes the theoretical and operational relationships among the key project components and relevant outcomes.

Project component means an activity, strategy, intervention, process, product, practice, or policy included in a project. Evidence may pertain to an individual project component or to a combination of project components (e.g., training teachers on instructional practices for English learners and follow-on coaching for these teachers).

Promising evidence means that there is evidence of the effectiveness of a key project component in improving a relevant outcome, based on a relevant finding from one of the following:

(a) A practice guide prepared by WWC reporting a “strong evidence base” or “moderate evidence base” for the corresponding practice guide recommendation;

(b) An intervention report prepared by the WWC reporting a “positive effect” or “potentially positive effect” on a relevant outcome with no reporting of a “negative effect” or “potentially negative effect” on a relevant outcome; or

(c) A single study assessed by the Department, as appropriate, that—

(1) Is an experimental study, a quasi-experimental design study, or a well-designed and well-implemented correlational study with statistical controls for selection bias (e.g., a study using regression methods to account for differences between a treatment group and a comparison group); and

(2) Includes at least one statistically significant and positive (i.e., favorable) effect on a relevant outcome.

Quasi-experimental design study means a study using a design that attempts to approximate an experimental study by identifying a comparison group that is similar to the treatment group in important respects. This type of study, depending on design and implementation (e.g., establishment of baseline equivalence of the groups being compared), can meet WWC standards with reservations, but cannot meet WWC standards without reservations, as described in the WWC Handbook.

Relevant outcome means the student outcome(s) or other outcome(s) the key project component is designed to improve, consistent with the specific goals of the program.

School engagement means participation in school-related activities, and the quality of school relationships, which may include relationships between and among administrators, teachers, parents, and students.

What Works Clearinghouse Handbook (WWC Handbook) means the standards and procedures set forth in the WWC Procedures and Standards Handbook, Version 3.0 or Version 2.1 (incorporated by reference, see 34 CFR 77.2). Study findings eligible for review under WWC standards can meet WWC standards without reservations, meet WWC standards with reservations, or not meet WWC standards. WWC practice guides and intervention reports include findings from systematic reviews of evidence as described in the Handbook documentation.

Waiver of Proposed Rulemaking: Under the Administrative Procedure Act (5 U.S.C. 553), the Department generally offers interested parties the opportunity to comment on proposed priorities, definitions, and requirements. Section 437(d)(1) of GEPA, however, allows the Secretary to exempt from rulemaking requirements regulations governing the first grant competition under a new or substantially revised program authority. This is the first grant competition for this program under section 4631(a)(1)(B) of the ESEA (20 U.S.C. 7281) and therefore qualifies for this exemption. In order to ensure timely grant awards, the Secretary has decided to forgo public comment on the priorities, definitions, and requirements under section 437(d)(1) of GEPA. These priorities, definitions, and requirements will apply to the FY 2019 grant competition and any subsequent year in which we make awards from the list of unfunded applications from this competition.

Program Authority: Section 4631(a)(1)(B) of the ESEA (20 U.S.C. 7281).

Applicable Regulations: (a) The Education Department General Administrative Regulations in 34 CFR parts 75, 77, 79, 81, 82, 84, 97, 98, and 99. (b) The Office of Management and Budget Guidelines to Agencies on Governmentwide Debarment and Suspension (Nonprocurement) in 2 CFR part 180, as adopted and amended as regulations of the Department in 2 CFR part 3485. (c) The Uniform Administrative Requirements, Cost Principles, and Audit Requirements for Federal Awards in 2 CFR part 200, as adopted and amended as regulations of the Department in 2 CFR part 3474. (d) The Supplemental Priorities.

II. Award Information

Type of Award: Discretionary grants.

Estimated Available Funds: $10,000,000.

Contingent upon the availability of funds and the quality of applications, we may make additional awards in FY 2020 and subsequent years from the list of unfunded applications from the competition announced in this notice.

Estimated Range of Awards: $250,000 to $1,000,000.

Estimated Average Size of Awards: $500,000.

Estimated Number of Awards: 20.

Note: The Department is not bound by any estimates in this notice.

Project Period: Up to 60 months.

III. Eligibility Information

1. Eligible Applicants: LEAs, including charter schools that are considered LEAs under State law.

2. Cost Sharing or Matching: This program does not require cost sharing or matching.

3. Subgrantees: A grantee under this competition may not award subgrants to entities to directly carry out project activities described in its application.

4. Limitation on Awards: The Department will award only one grant per LEA.

IV. Application and Submission Information

1. Application Submission Instructions: Applicants are required to follow the Common Instructions for Applicants to Department of Education Discretionary Grant Programs, published in the Federal Register on February 13, 2019 (84 FR 3768), and available at www.govinfo.gov/content/pkg/FR-2019-02-13/pdf/2019-02206.pdf, which contain requirements and information on how to submit an application.

2. Intergovernmental Review: This program is subject to Executive Order 12372 and the regulations in 34 CFR part 79.

3. Funding Restrictions: We reference regulations outlining funding restrictions in the Applicable Regulations section of this notice.

V. Application Review Information

1. Selection Criteria: The selection criteria for this program are from 34 CFR 75.210. The maximum score for all selection criteria is 100 points. The points or weights assigned to each criterion are indicated in parentheses. Non-Federal peer reviewers will evaluate and score each application program narrative against the following selection criteria:

(a) Need for project (15 points).

(1) The Secretary considers the need for the project.

(2) In determining the need for the project, the Secretary considers the following factors:

(i) The magnitude of the need for the services to be provided or the activities to be carried out by the proposed project. (10 points)

(ii) The extent to which specific gaps or weaknesses in services, infrastructure, or opportunities have been identified and will be addressed by the proposed project, including the nature and magnitude of those gaps or weaknesses. (5 points)

(b) Significance (15 points).

(1) The Secretary considers the significance of the proposed project.

(2) In determining the significance of the proposed project, the Secretary considers the extent to which the proposed project is likely to build local capacity to provide, improve, or expand services that address the needs of the target population.

(c) Quality of the project design (15 points).

(1) The Secretary considers the quality of the design of the proposed project.

(2) In determining the quality of the design of the proposed project, the Secretary considers the following factors:

(i) The extent to which the design of the proposed project is appropriate to, and will successfully address, the needs of the target population or other identified needs. (5 points)

(ii) The extent to which the proposed project will integrate with or build on similar or related efforts to improve relevant outcomes (as defined in this notice), using existing funding streams from other programs or policies supported by community, State, and Federal resources. (5 points)

(iii) The extent to which the proposed project is supported by promising evidence (as defined in this notice). (5 points)

(d) Quality of the project services (25 points).

(1) The Secretary considers the quality of the services to be provided by the proposed project.

(2) In determining the quality of the services to be provided by the proposed project, the Secretary considers the quality and sufficiency of strategies for ensuring equal access and treatment for eligible project participants who are members of groups that have traditionally been underrepresented based on race, color, national origin, gender, age, or disability.

(3) In addition, the Secretary considers the extent to which the training or professional development services to be provided by the proposed project are of sufficient quality, intensity, and duration to lead to improvements in practice among the recipients of those services.

(e) Quality of the management plan (15 points).

(1) The Secretary considers the quality of the management plan for the proposed project.

(2) In determining the quality of the management plan for the proposed project, the Secretary considers the adequacy of the management plan to achieve the objectives of the proposed project on time and within budget, including clearly defined responsibilities, timelines, and milestones for accomplishing project tasks.

(f) Quality of the project evaluation (15 points).

(1) The Secretary considers the quality of the evaluation to be conducted of the proposed project.

(2) In determining the quality of the evaluation, the Secretary considers the extent to which the methods of evaluation are thorough, feasible, and appropriate to the goals, objectives, and outcomes of the proposed project.

2. Review and Selection Process: We remind potential applicants that in reviewing applications in any discretionary grant competition, the Secretary may consider, under 34 CFR 75.217(d)(3), the past performance of the applicant in carrying out a previous award, such as the applicant's use of funds, achievement of project objectives, and compliance with grant conditions. The Secretary may also consider whether the applicant failed to submit a timely performance report or submitted a report of unacceptable quality.

In addition, in making a competitive grant award, the Secretary also requires various assurances including those applicable to Federal civil rights laws that prohibit discrimination in programs or activities receiving Federal financial assistance from the Department (34 CFR 100.4, 104.5, 106.4, 108.8, and 110.23).

3. Risk Assessment and Specific Conditions: Consistent with 2 CFR 200.205, before awarding grants under this program the Department conducts a review of the risks posed by applicants. Under 2 CFR 3474.10, the Secretary may impose specific conditions and, in appropriate circumstances, high-risk conditions on a grant if the applicant or grantee is not financially stable; has a history of unsatisfactory performance; has a financial or other management system that does not meet the standards in 2 CFR part 200 subpart D; has not fulfilled the conditions of a prior grant; or is otherwise not responsible.

4. Integrity and Performance System: If you are selected under this competition to receive an award that over the course of the project period may exceed the simplified acquisition threshold (currently $250,000), under 2 CFR 200.205(a)(2) we must make a judgment about your integrity, business ethics, and record of performance under Federal awards—that is, the risk posed by you as an applicant—before we make an award. In doing so, we must consider any information about you that is in the integrity and performance system (currently referred to as the Federal Awardee Performance and Integrity Information System (FAPIIS)), accessible through the System for Award Management. You may review and comment on any information about yourself that a Federal agency previously entered and that is currently in FAPIIS.

Please note that, if the total value of your currently active grants, cooperative agreements, and procurement contracts from the Federal Government exceeds $10,000,000, the reporting requirements in 2 CFR part 200, Appendix XII, require you to report certain integrity information to FAPIIS semiannually. Please review the requirements in 2 CFR part 200, Appendix XII, if this grant plus all the other Federal funds you receive exceed $10,000,000.

VI. Award Administration Information

1. Award Notices: If your application is successful, we notify your U.S. Representative and U.S. Senators and send you a Grant Award Notification (GAN); or we may send you an email containing a link to access an electronic version of your GAN. We may notify you informally, also.

If your application is not evaluated or not selected for funding, we notify you.

2. Administrative and National Policy Requirements: We identify administrative and national policy requirements in the application package and reference these and other requirements in the Applicable Regulations section of this notice.

We reference the regulations outlining the terms and conditions of an award in the Applicable Regulations section of this notice and include these and other specific conditions in the GAN. The GAN also incorporates your approved application as part of your binding commitments under the grant.

3. Open Licensing Requirements: Unless an exception applies, if you are awarded a grant under this competition, you will be required to openly license to the public grant deliverables created in whole, or in part, with Department grant funds. When the deliverable consists of modifications to pre-existing works, the license extends only to those modifications that can be separately identified and only to the extent that open licensing is permitted under the terms of any licenses or other legal restrictions on the use of pre-existing works. Additionally, a grantee or subgrantee that is awarded competitive grant funds must have a plan to disseminate these public grant deliverables. This dissemination plan can be developed and submitted after your application has been reviewed and selected for funding. For additional information on the open licensing requirements please refer to 2 CFR 3474.20.

4. Reporting: (a) If you apply for a grant under this competition, you must ensure that you have in place the necessary processes and systems to comply with the reporting requirements in 2 CFR part 170 should you receive funding under the competition. This does not apply if you have an exception under 2 CFR 170.110(b).

(b) At the end of your project period, you must submit a final performance report, including financial information, as directed by the Secretary. If you receive a multiyear award, you must submit an annual performance report that provides the most current performance and financial expenditure information as directed by the Secretary under 34 CFR 75.118. The Secretary may also require more frequent performance reports under 34 CFR 75.720(c). For specific requirements on reporting, please go to www.ed.gov/fund/grant/apply/appforms/appforms.html.

5. Performance Measures: The Department has established the following Government Performance and Results Act of 1993 performance measures for the Project Prevent grant program:

(a) Annual decrease in violent, aggressive, and disruptive behavior in schools served by the grant.

(b) Annual increase in the number of students in schools served by the grant receiving school-based and community-based mental health services to address student needs resulting from exposure to violence.

(c) Annual increase in the school engagement (as defined in this notice) of students served by the grant.

(d) Quality of family engagement and grantee engagement with community-based organization(s), as defined and measured by the grantee.

These measures constitute the Department's indicators of success for this program. Consequently, we advise an applicant for a grant under this program to give careful consideration to these measures in conceptualizing the approach and evaluation for its proposed project. Each grantee will be required to provide, in its annual performance and final reports, data about its progress in meeting these measures. This data will be considered by the Department in making continuation awards.

Consistent with 34 CFR 75.591, grantees funded under this program must comply with the requirements of any evaluation of the program conducted by the Department or an evaluator selected by the Department.

Baseline data: Applicants must provide baseline data (as defined in this notice) for each of the performance measures listed above and explain why each baseline is valid; or, if the applicant has determined that there are no established baseline data for a particular performance measure, explain why there is no established baseline and explain how and when, during the project period, the applicant will establish a valid baseline for the performance measure.

Performance measure targets: In addition, applicants must propose annual targets for the measures listed above in their application. Applicants must also provide the following information as directed under 34 CFR 75.110(b) and (c):

(1) Why each proposed performance target is ambitious (as defined in this notice) yet achievable compared to the baseline for the performance measure.

(2) (a) The data collection and reporting methods the applicant would use and why those methods are likely to yield reliable, valid, and meaningful performance data; and (b) the applicant's capacity to collect and report reliable, valid, and meaningful performance data, as evidenced by high-quality data collection, analysis, and reporting in other projects or research.

Note: If the applicant does not have experience with collection and reporting of performance data through other projects or research, the applicant should provide other evidence of capacity to successfully carry out data collection and reporting for its proposed project, which may include contracting with providers who have relevant expertise.

The reviewers of each application will score related selection criteria on the basis of how well an applicant has considered these measures in conceptualizing the approach and evaluation of the project.

All grantees must submit an annual performance report and final performance report with information that is responsive to these performance measures.

6. Continuation Awards: In making a continuation award under 34 CFR 75.253, the Secretary considers, among other things: Whether a grantee has made substantial progress in achieving the goals and objectives of the project; whether the grantee has expended funds in a manner that is consistent with its approved application and budget; and, if the Secretary has established performance measurement requirements, the performance targets in the grantee's approved application.

In making a continuation award, the Secretary also considers whether the grantee is operating in compliance with the assurances in its approved application, including those applicable to Federal civil rights laws that prohibit discrimination in programs or activities receiving Federal financial assistance from the Department (34 CFR 100.4, 104.5, 106.4, 108.8, and 110.23).

VII. Other Information

Accessible Format: Individuals with disabilities can obtain this document and a copy of the application package in an accessible format (e.g., Braille, large print, audiotape, or compact disc) on request to the program contact person listed under FOR FURTHER INFORMATION CONTACT.

Electronic Access to This Document: The official version of this document is the document published in the Federal Register. You may access the official edition of the Federal Register and the Code of Federal Regulations at: www.govinfo.gov. At this site you can view this document, as well as all other documents of this Department published in the Federal Register, in text or Adobe Portable Document Format (PDF). To use PDF you must have Adobe Acrobat Reader, which is available free at the site.

You may also access documents of the Department published in the Federal Register by using the article search feature at: www.federalregister.gov. Specifically, through the advanced search feature at this site, you can limit your search to documents published by the Department.

Frank T. Brogan,
Assistant Secretary for Elementary and Secondary Education.

[FR Doc. 2019-11677 Filed 6-4-19; 8:45 am]

BILLING CODE 4000-01-P